DEPARTMENT OF HOUSING AND URBAN DEVELOPMENT

[Docket No. FR-5629-N-01]

Authority To Accept Unsolicited Research Proposals

AGENCY: Office of the Assistant Secretary for Policy Development and Research, HUD.

ACTION: Notice: Authority to accept unsolicited proposals for research partnerships.

SUMMARY: This notice announces that HUD's Office of Policy Development and Research has the authority to accept unsolicited research proposals that address one of the following research priorities: (1) HUD demonstrations, (2) using housing as a platform for improving quality of life, (3) the American Housing Survey data, or (4) housing technology. In accordance with statutory requirements, the research projects must be funded at least 50 percent by philanthropic entities and/or federal, state or local government agencies.

DATES: Proposals may be submitted at any time and will be evaluated as they are received.

FOR FURTHER INFORMATION CONTACT: Questions should be directed by email to ResearchPartnerships@hud.gov, by telephone to Sarah Schaefer, Office of Policy Development at (202) 402-6846 (this number is not toll-free), or by mail to the Department of Housing and Urban Development, Office of Policy Development and Research, 451 Seventh Street SW., Room 8114, Washington, DC 20410, ATTENTION: Research Partnerships. Persons with speech or hearing impairments may call the Federal Relay Service TTY at 800-877-8339.

SUPPLEMENTARY INFORMATION: The Consolidated and Further Continuing Appropriations Act, 2012 (Pub. L. 112-55, approved November 18, 2011) (2012 Appropriations Act) authorizes the Office of Policy Development and Research (PD&R) to enter into non-competitive cooperative agreements for projects that are aligned with PD&R's research priorities and where HUD can gain value by having substantial involvement in the research activity.

Research Priorities

HUD may enter into noncompetitive cooperative agreements for research proposals that inform important policy and program objectives of HUD that are not otherwise being addressed and that focus on one of HUD's research priorities. For 2012, HUD's four research priorities all focus on projects in the United States. The research priorities are:

(1) HUD demonstrations. HUD values demonstrations as a method for evaluating new policy and program initiatives. HUD is interested in research opportunities that take advantage of its demonstrations, including completed, current, and future demonstrations. For example, the Moving to Opportunity demonstration was completed in 2011, but additional policy questions remain that could be answered using the existing data. In addition, the Choice Neighborhoods demonstration is currently under way and the Rental Assistance Demonstration and Small Area FMR Demonstration will both begin in 2012, all of which provide further opportunities for research.

(2) Using housing as a platform to improve quality of life. For the first time, HUD identified using housing as a platform for improving quality of life as a goal in its Strategic Plan. Specifically, HUD is interested in how HUD assistance can be used to improve educational outcomes and early learning and development; improve health outcomes; increase economic security and self sufficiency; improve housing stability through supportive services for vulnerable populations, including the elderly, people with disabilities, homeless people, and those individuals and families at risk of becoming homeless; and improve public safety. To evaluate the ability of housing assistance to positively affect these various outcomes requires reaching beyond the sphere of housing to health, education, and other areas.

(3) Use of American Housing Survey data. One of HUD's largest research investments is the American Housing Survey (AHS). The AHS provides a wealth of data on size and composition of the nation's housing inventory, which could be more effectively used by researchers to address questions about housing market dynamics.

(4) Housing technology for construction and rehabilitation work for HUD-funded clients. Public and private housing providers are increasingly using housing technology to improve energy efficiency or to introduce green or sustainable housing rehabilitation, construction, or products in the HUD-funded housing. HUD is interested in research that explores the successful efforts and knowledge of the private building sector that carries out construction and rehabilitation work for HUD-funded clients. This would be accomplished by examining products and systems, the decision-making process by private and public parties, and strategies pursued by private and philanthropic parties producing and promoting products and systems. HUD's interest is in encouraging replication of successful efforts by both private builders and HUD clients.

Cost Sharing

Cost sharing is required for research projects to be eligible for funding through HUD's non-competitive cooperative agreement authority. In accordance with the 2012 Appropriations Act, at least 50 percent of the total estimated cost of the project must come from a philanthropic entity, other federal agency, or state or local government agency, or any combination of these partners. For the purposes of the cost-sharing requirement, HUD defines a philanthropic entity as the subset of 501(c)(3) organizations that directly fund research activities. These include private foundations, public charities, and operating foundations. An educational institution may have a separate foundation, which would be considered a philanthropic entity for these purposes. Philanthropic entities may include foreign entities. Contributions do not include waiver of overhead or similar costs.

Proposals

Proposals should contain sufficient information for PD&R to identify whether the research would meet statutory requirements for cost sharing and alignment with the research priorities identified above. Additionally, proposals should include the name, title, and telephone number of an individual that PD&R may contact in the event of any questions about the proposal. Proposals for research partnerships that have already been submitted to HUD as part of a grant competition are ineligible as the subject of a non-competitive cooperative agreement.

Proposal Review

Proposals will be reviewed by a person or persons within HUD who are knowledgeable in the field of endeavor related to the substance of the research proposal. An Advisory Committee that includes the Deputy Assistant Secretary (DAS) for the Office of Research, Evaluation and Monitoring, the DAS for the Office of Policy Development, the DAS for the Office of Economic Affairs, the DAS for the Office of International and Philanthropic Innovation, and the DAS for the Office of University Partnerships, or any delegate asked to act on his or her behalf, will review proposals and make recommendations to the Assistant Secretary of PD&R. That recommendation will be documented and sent to the Office of the General Counsel and PD&R's Budget office concurrent with submission to the Assistant Secretary. As required by the statutory authority within the appropriations bill, HUD will report each award provided through a cooperative agreement in the Federal Funding Accountability and Transparency Act Sub-award Reporting System created under the Federal Funding Accountability and Transparency Act of 2006.

Dated: April 9, 2012.
Raphael W. Bostic,
Assistant Secretary for Policy, Development and Research.

[FR Doc. 2012-8972 Filed 4-12-12; 8:45 am]

BILLING CODE 4210-67-P